DEPARTMENT OF ENERGY

U.S. Energy Information Administration

Agency Information Collection Proposed New Survey OR Extension

AGENCY: U.S. Energy Information Administration (EIA), Department of Energy (DOE).

ACTION: Notice and request for comments.

SUMMARY: EIA is requesting a three-year extension, without changes, of the Generic Clearance for the Collection of Qualitative Feedback on Agency Service Delivery. This generic clearance enables EIA to collect customer and stakeholder feedback from the public on service delivery in an efficient and timely manner to ensure that EIA's programs effectively meet our customers' needs and to collect feedback on improving service delivery to the public.

DATES: EIA must receive all comments on this proposed information collection no later than July 22, 2019. If you anticipate any difficulties in submitting your comments by the deadline, contact the person listed in the ADDRESSES section of this notice as soon as possible.

ADDRESSES: Mail comments to Jacob Bournazian, U.S. Energy Information Administration, 1000 Independence Avenue SW, EI-21, Washington, DC 20585.

Submit comments electronically to jacob.bournazian@eia.gov.

FOR FURTHER INFORMATION CONTACT: If you need additional information, send your request to Jacob Bournazian, U.S. Energy Information Administration, telephone: (202) 586-5562, email at jacob.bournazian@eia.gov.

SUPPLEMENTARY INFORMATION: This information collection request contains:

(1) OMB No. 1905-0210;

(2) Information Collection Request Title: Generic Clearance for the Collection of Qualitative Feedback on Agency Service Delivery;

(3) Type of Request: Renewal;

(4) Purpose: The solicitation of feedback on Agency Service Delivery includes topics such as: Timeliness of publishing, understanding of questions and terminology used in EIA products, perceptions on data confidentiality and security, appropriateness and relevancy of information published, accuracy of information, courtesy, efficiency of service delivery, and resolution of issues with service delivery. Responses are assessed to plan and inform efforts to improve or maintain the quality of service offered to the public. If this information is not collected, vital feedback from customers and stakeholders on the agency's services will be unavailable. The agency will only submit an information collection for approval under this generic clearance if it meets the following conditions: It is voluntary; it has a low burden for respondents; is low-cost for both the respondents and the Federal Government; is noncontroversial and does not raise issues of concern to other Federal agencies; is targeted to the solicitation of opinions from respondents who have experience with the program or may have experience with the program in the near future; Personally Identifiable Information (PII) may be collected, if the need arises, PII is collected only to the extent necessary to initially contact respondents and is not retained. The information gathered is intended only to be used internally for general service improvement, the design, modification, and evaluation of survey instruments, modes of data collection, and program management purposes.

Advances in technology and service delivery systems in the private sector, have increased the public's expectations of the Government's customer service promise. The agency must also address the need to improve its services, not only to individuals, but also to private and Governmental entities to which the agency directly provides significant services to keep pace with the public's expectations of the Government. Government managers must identify and learn from what is working in the private sector and apply these best practices to deliver services better, faster, and at lower cost. Such best practices include increasingly popular lower-cost, self-service options accessed by the internet or mobile phone and improved processes that deliver services faster and more responsively, reducing the overall need for customer inquiries and complaints. The Federal Government has a responsibility to streamline and make more efficient its service delivery to better serve the public.

(5) Annual Estimated Number of Respondents: 80,600.

(6) Annual Estimated Number of Total Responses: 80,600.

(7) Annual Estimated Number of Burden Hours: 8,446.

(8) Annual Estimated Reporting and Recordkeeping Cost Burden: $625,173.00.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: E.O. 12862, Setting Customer Service Standards, E.O. 13571, Streamlining Service Delivery and Improving Customer Service.

Signed in Washington, DC, on May 16, 2019.
Nanda Srinivasan,
Director, Office of Survey Development and Statistical Integration, U.S. Energy Information Administration.

[FR Doc. 2019-10560 Filed 5-20-19; 8:45 am]

BILLING CODE 6450-01-P